NATIONAL TRANSPORTATION SAFETY BOARD

Sunshine Act Meeting

The National Transportation Safety Board is holding this meeting under the Government in the Sunshine Act, 5 U.S.C. 552(b).

FEDERAL REGISTER CITATION OF PREVIOUS ANNOUNCEMENT: 85 FR 7610 (February 10, 2020).

PREVIOUSLY ANNOUNCED TIME AND DATE OF THE MEETING: 9:30 a.m., Tuesday, February 25, 2020.

CHANGES TO THE MEETING (TIME): 1:00 p.m., Tuesday, February 25, 2020.

CONTACT PERSON FOR MORE INFORMATION: Candi Bing at (202) 314-6403 or by email at bingc@ntsb.gov.

Dated: Thursday, February 24, 2020.
LaSean R McCray,
Alternate Federal Register Liaison Officer.

[FR Doc. 2020-04070 Filed 2-25-20; 11:15 am]

BILLING CODE 7533-01-P